DEPARTMENT OF THE INTERIOR

National Park Service

[NPS-WASO-NAGPRA-NPS0040328; PPWOCRADN0-PCU00RP14.R50000]

Notice of Inventory Completion: U.S. Department of the Interior, Bureau of Land Management, Wyoming State Office, Cheyenne, WY

AGENCY: National Park Service, Interior.

ACTION: Notice.

SUMMARY: In accordance with the Native American Graves Protection and Repatriation Act (NAGPRA), the Wyoming Bureau of Land Management has completed an inventory of human remains and associated funerary objects and has determined that there is a cultural affiliation between the human remains and associated funerary objects and Indian Tribes or Native Hawaiian organizations in this notice.

DATES: Repatriation of the human remains and associated funerary objects in this notice may occur on or after July 11, 2025.

ADDRESSES: Send written requests for repatriation of the human remains and associated funerary objects in this notice to Andrew Archuleta, State Director Wyoming Bureau of Land Management, 5353 Yellowstone Road, Cheyenne, WY 82009, email blm_wy_copywork@blm.gov.

SUPPLEMENTARY INFORMATION: This notice is published as part of the National Park Service's administrative responsibilities under NAGPRA. The determinations in this notice are the sole responsibility of the Wyoming Bureau of Land Management, and additional information on the determinations in this notice, including the results of consultation, can be found in its inventory or related records. The National Park Service is not responsible for the determinations in this notice.

Abstract of Information Available

Human remains representing, at least, 41 individuals have been identified. The approximately 24,157 associated funerary objects are projectile points, bifaces, scrapers, formal tools, modified flakes, hammerstones, manos, metates, ground stone, obsidian, fire cracked rock, lithic debitage, mammal bone, shell, organic debris, ceramics, beads, and other items.

In 1961, human remains representing, one individual were removed from an unknown location on BLM lands near Church Buttes in Uinta County, WY, during construction of a pipeline. The human remains (HR338) represent a 65+ year old Native American female. No associated funerary objects were recovered.

In 1985, human remains representing, three individuals were removed from a known location on BLM lands near Shute Creek in Lincoln County, WY, during an archeological excavation. The human remains (DB011) represent a possible 20-21 year old Native American male, a 45-60 year old Native American female and a 7-10 year old Native American of unknown gender. As determined by the consulting parties, 17,055 associated funerary objects (projectile points, bifaces, scrapers, formal tools, modified flakes, hammerstones, manos, metates, ground stone, obsidian, fire cracked rock, lithic debitage, mammal bone, shell, organic debris, ceramics, beads, and other decorative items) were recovered in archeological site 48LN1296.

In 1979, human remains representing, one individual were removed from a known location on private lands near the town of Kaycee in Johnson County, WY, by a BLM archeologist. The human remains (DB034) represent a 50 year old Native American male. No associated funerary objects were recovered.

In 1979, human remains representing, one individual were removed from a known location on BLM lands near Muddy Creek in Carbon County, WY, as part of an archeological excavation. The human remains (DB069) represent a newborn Native American of unknown age. As determined by the consulting parties, 380 associated funerary objects (scrapers, projectile points, fauna, debitage/flakes, charcoal, drills, gravers, retouched flakes, bifaces, utilized flakes, knifes, cores, mammal bones) were recovered in archeological site 48CR325.

In 1981, human remains representing, one individual were removed from a known location on BLM lands near Thermopolis in Hot Springs County, WY, as part of an archeological excavation. The human remains (DB137) represent a 33-50 year old Native American male. No associated funerary objects were recovered.

In 1982, human remains representing, one individual were removed from a known location on BLM lands near Robbers Gulch in Carbon County, WY, during an archeological excavation. The human remains (FC036-1) represent an unknown aged Native American. No associated funerary objects were recovered.

In 1982, human remains representing, one individual were removed from a known location on BLM lands near Robbers Gulch in Carbon County, WY, during an archeological excavation. The human remains (FC036-2) represent an unknown 35 year old Native American male. The 18 associated funerary objects were recovered including a perforated shell and projectile points.

In 1982, human remains representing, one individual were removed from a known location on BLM lands near Robbers Gulch in Carbon County, WY, during an archeological excavation. The human remains (FC036-3) represent an unknown 4-9 year old Native American of unknown gender. The one associated funerary object was recovered, a perforated shell.

In 1984, human remains representing, one individual were removed from a known location on BLM lands near Ruby Butte in Sublette County, WY, during an archeological excavation. The human remains (FC133) represent a 3-5 year old Native American of unknown gender. As determined by the consulting parties, one associated funerary object (biface) was recovered in archeological site 48SU2019.

In 1958 or 1959, human remains representing, one individual were removed from a known location on BLM lands near the town of Tensleep in Washakie County, WY, by collectors. The human remains (HR001) represent a 20-21 year old Native American male. No associated funerary objects were recovered.

In 1972, human remains representing, one individual were removed from a known location on BLM lands near the South Fork of the Powder River in Johnson County, WY, as part of an archeological collection. The human remains (HR010) represent a 35-45 year old Native American male. An associated funerary object (worked juniper) was recovered.

In 1975, human remains representing, one individual were removed from a known location on BLM lands near the Boars Tusk in Sweetwater County, WY, by collectors. The human remains (HR044) represent a 50-65 year old Native American male. No associated funerary objects were recovered.

In 1976, human remains representing, one individual were removed from a known location on BLM lands in Carbon County, WY, by collectors. The human remains (HR050) represent a 45-60 year old Native American male. No associated funerary objects were recovered.

In 1976, human remains representing, one individual were removed from a known location on BLM lands by Lost Creek Lake in Sweetwater County, WY, by collectors. The human remains (HR055) represent a 35-50 year old Native American of unknown gender. No associated funerary objects were recovered.

In 1985, human remains representing, one individual were removed from a known location on BLM lands by Bridger Gap in Uinta County, WY, during highway construction. The human remains (HR0132) represent a 60+ year old Native American female. As determined by the consulting parties, 3,361 associated funerary objects (cores, projectile points, bifaces, scrapers, formal tools, modified flakes, hammerstones, obsidian, FCR, debitage, cores, gravers, ceramics, mammal bones, beads, manos, metates, cans and cartridges) were recovered in archeological site 48SUT920.

In 1962, human remains representing, one individual were removed from a known location on BLM lands near Alcova in Natrona County, WY, during drag line construction. The human remains (HR0135) represent a 7-9 year old Native American of unknown gender. No associated funerary objects were recovered.

In 1962, human remains representing, one individual were removed from a known location on BLM lands near Farson in Sublette County, WY, during archeological excavation. The human remains (HR0186) represent an unknown aged Native American, potentially female. As determined by the consulting parties, 3,300 associated funerary objects (fauna, bone, charcoal, utilized flakes, debitage, flakes, scraper, projectile points) were recovered in archeological site 48SU301.

In 1962, human remains representing, one individual were removed from a known location on BLM lands near Meadow Draw in Uinta County, WY, during archeological excavation. The human remains (HR0198) represent an 50-65 year old Native American female. Associated funerary objects were recovered (metates and bone tools), and as determined by the consulting parties, 32 associated funerary objects (projectile points, bifaces, scrapers, other tools, shaped bone/bone tools, obsidian, FCR, and debitage) were recovered in archeological site 48UT63.

In 1960, human remains representing, twelve individuals were removed from a known location on BLM lands near Gray Mount (Graymound) in Washakie County, WY, by collectors. The human remains (HR250a, HR250b, HR250c, HR250D, HR250d, HR250e, HR250f, HR250u) represent an 18-19 year old Native American female, an 40+ year old Native American male, a 51+ year old Native American male, a 20-30 year old Native American male, a 3-4 year old Native American of unknown gender, a 14-16 year old Native American female, and at least six unknown ages of Native Americans of unknown genders. The three associated funerary objects (beads, lithics and faunal elements) were recovered.

In the 1960's, human remains representing one individual were removed from a known location on BLM lands near the Little Popo Agie in Freemont County, WY, during gravel pit excavation. The human remains (HR262(a)) represent an unknown aged Native American or Caucasian female. No associated funerary objects were recovered.

In the 1960's, human remains representing, at least five individuals were removed from a known location on BLM lands near the Boars Tusk in Sweetwater County, WY, by collectors. The human remains (Boars Tusk #1, #2, #7 and HR321) represent unknown ages of Native American of unknown genders. The one lot of associated funerary objects (beads) were recovered.

In or before 1979, human remains representing, one individual were removed from an unknown location on BLM lands in Sweetwater County, WY, during a crime scene investigation. The human remains (HR337) represent a 30-35 year old Native American female. As determined by the consulting parties, eight associated funerary objects (dart point, chopper, core, hammerstone, obsidian flakes, charcoal samples, and debitage) were recovered in archeological site 48SW5860.

In approximately 1980, human remains representing, one individual were removed from an unknown location on BLM lands Near Piney Creek in Sublette County, WY, as part of a crime scene investigation. The human remains (FC159) represent a 23-34 year old Native American male. No associated funerary objects were recovered.

Approximately 1928 human remains representing, one individual were removed from an unknown location on BLM lands Near Tensleep, WY, in Washakie County, WY, as part of a crime scene investigation. The human remains (FC341) represent a 18-22 year old Native American female. No associated funerary objects were recovered.

Cultural Affiliation

Based on the information available and the results of consultation, cultural affiliation is reasonably identified by the geographical location or acquisition history of the human remains and associated funerary objects described in this notice.

Determinations

The Wyoming Bureau of Land Management has determined that:

• The human remains described in this notice represent the physical remains of 41 individuals of Native American ancestry.

• The 24,161 objects described in this notice are reasonably believed to have been placed intentionally with or near individual human remains at the time of death or later as part of the death rite or ceremony.

• There is a connection between the human remains and associated funerary objects described in this notice and the Assiniboine and Sioux Tribes of the Fort Peck Indian Reservation, Montana; Blackfeet Tribe of the Blackfeet Indian Reservation of Montana; Cheyenne River Sioux Tribe of the Cheyenne River Reservation, South Dakota; Chippewa Cree Indians of the Rocky Boy's Reservation, Montana; Crow Tribe of Montana; Eastern Shoshone Tribe of the Wind River Reservation, Wyoming; Fort Belknap Indian Community of the Fort Belknap Reservation of Montana; Kiowa Indian Tribe of Oklahoma; Northern Arapaho Tribe of the Wind River Reservation, Wyoming; Northern Cheyenne Tribe of the Northern Cheyenne Indian Reservation, Montana; Oglala Sioux Tribe; Pawnee Nation of Oklahoma; Rosebud Sioux Tribe of the Rosebud Indian Reservation, South Dakota; Standing Rock Sioux Tribe of North & South Dakota; and the Winnebago Tribe of Nebraska.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after July 11, 2025. If competing requests for repatriation are received, the Wyoming Bureau of Land Management must determine the most appropriate requestor prior to repatriation. Requests for joint repatriation of the human remains and associated funerary objects are considered a single request and not competing requests. The Wyoming Bureau of Land Management is responsible for sending a copy of this notice to the Indian Tribes and Native Hawaiian organizations identified in this notice and any other consulting parties.

Authority: Native American Graves Protection and Repatriation Act, 25 U.S.C. 3003, and the implementing regulations, 43 CFR 10.10.

Dated: May 28, 2025.
Melanie O'Brien,
Manager, National NAGPRA Program.

[FR Doc. 2025-10598 Filed 6-10-25; 8:45 am]

BILLING CODE 4312-52-P